DEPARTMENT OF COMMERCE

National Technical Information Service

National Technical Information Service Advisory Board

AGENCY: National Technical Information Service, Commerce.

ACTION: Notice of open meeting.

SUMMARY: This notice announces the next meeting of the National Technical Information Service Advisory Board (the Advisory Board), which advises the Secretary of Commerce and the Director of the National Technical Information Service (NTIS) on policies and operations of the Service.

DATES: The Advisory Board will meet on Wednesday, January 30, 2008 from 9 a.m. to approximately 5 p.m. and again on Thursday, January 31, 2008 from 9 a.m. to approximately 12 Noon.

ADDRESSES: The Advisory Board meeting will be held in Room 2029 of the Sills Building at 5285 Port Royal Road, Springfield, Virginia 22161. Please note admittance instructions under the SUPPLEMENTARY INFORMATION section of this notice.

FOR FURTHER INFORMATION CONTACT: Mr. Steven D. Needle, (703) 605-6404, sneedle@ntis.gov or Ms. Jill Johnson (703) 605-6401, jjohnson@ntis.gov. These are not toll-free telephone numbers.

SUPPLEMENTARY INFORMATION: The NTIS Advisory Board is established by Section 3704b(c) of Title 15 of the United States Code. The charter has been filed in accordance with the requirements of the Federal Advisory Committee Act, as amended (5 U.S.C. App.).

The January 30 morning session will focus on a discussion of NTIS' lines of business and core competencies. The afternoon session, time permitting, is expected to focus on issues pertaining to the identification of new markets, new ways to enhance NTIS' utility to customers, human skill set challenges, the implications of a physical move to a new location, and technological challenges and opportunities. The January 31 session will focus primarily on Board business but may continue the previous day's discussions. A final agenda and summary of the proceedings will be posted at the NTIS Web site as soon as they are available (http://www.ntis.gov/about/advisorybd.asp).

The Sills Building is a secure facility. Accordingly, persons wishing to attend should call the contacts identified above to arrange for admission. Approximately one-half hour will be reserved for public comments during the afternoon of the January 30 session. The amount of time per speaker will be determined by the number of requests received. Questions from the public will not be considered during this period. Any person who wishes to submit a written statement for the Board's consideration should mail or e-mail it to the contacts named above not later than January 16, 2008.

Dated: December 3, 2007.
Ellen Herbst,
Director.

[FR Doc. E7-24859 Filed 12-20-07; 8:45 am]

BILLING CODE 3510-04-P